COMMODITY FUTURES TRADING COMMISSION

Global Markets Advisory Committee

AGENCY: Commodity Futures Trading Commission (“CFTC”).

ACTION: Notice of meeting of Global Markets Advisory Committee.

SUMMARY: The Global Markets Advisory Committee will hold a public meeting on October 5, 2010, from 1 p.m. to 5 p.m., at the CFTC's Washington, DC headquarters.

DATES: The meeting will be held on October 5, 2010 from 1 p.m. to 5 p.m. Members of the public who wish to submit written statements in connection with the meeting should submit them by October 4, 2010.

ADDRESSES: The meeting will take place in the first floor hearing room at the CFTC's headquarters, Three Lafayette Centre, 1155 21st Street, NW., Washington, DC 20581.

Written statements should be submitted to: Commodity Futures Trading Commission, Three Lafayette Centre, 1155 21st Street, NW., Washington, DC 20581, attention Office of the Secretary. Please use the title “Global Markets Advisory Committee” in any written statement you may submit. Any statements submitted in connection with the committee meeting will be made available to the public.

FOR FURTHER INFORMATION CONTACT: Michael Otten, Commodity Futures Trading Commission, Three Lafayette Centre, 1155 21st Street, NW., Washington, DC 20581, (202) 418-5388.

SUPPLEMENTARY INFORMATION: The agenda for the meeting will include discussion of:

Ongoing and anticipated IOSCO projects

Relevant Dodd/Frank rulemakings

Foreign Board of Trade (FBOT) rulemaking

European Commission Proposal/comparison to Dodd/Frank

The meeting will be webcast on the CFTC's Web site, http://www.cftc.gov. Members of the public also can listen to the meeting by telephone. The public access call-in numbers will be announced at a later date.

Authority: 5 U.S.C. app. 2 § 10(a)(2).

By the Commodity Futures Trading Commission.
Dated: September 14, 2010.
David A. Stawick,
Secretary of the Commission.

[FR Doc. 2010-23307 Filed 9-16-10; 8:45 am]

BILLING CODE 6351-01-P